DEPARTMENT OF HOMELAND SECURITY

Coast Guard

33 CFR Part 117

[Docket No. USCG-2018-0660]

Drawbridge Operation Regulation; Jamaica Bay, Queens, NY

AGENCY: Coast Guard, DHS.

ACTION: Notice of deviation from drawbridge regulation.

SUMMARY: The Coast Guard has issued a temporary deviation from the operating schedule that governs the Marine Parkway (Gil Hodges Memorial) bridge across Jamaica Bay (Rockaway Inlet), mile 3.0, at Queens, NY. The deviation is necessary to complete rehabilitation work on the bridge. This deviation allows the bridge owner to require two hours advance notice before opening the bridge.

DATES: This deviation is effective from 8 a.m. on July 30, 2018, to 4 p.m. on November 30, 2018.

ADDRESSES: The docket for this deviation, USCG-2018-0660 is available at http://www.regulations.gov. Type the docket number in the “SEARCH” box and click “SEARCH”. Click on Open Docket Folder on the line associated with this deviation.

FOR FURTHER INFORMATION CONTACT: If you have questions on this temporary deviation, call or email Judy Leung-Yee, Bridge Management Specialist, First District Bridge Branch, U.S. Coast Guard; telephone 212-514-4336, email Judy.K.Leung-Yee@uscg.mil.

SUPPLEMENTARY INFORMATION: The owner of the bridge, Metropolitan Transportation Authority Bridges and Tunnels, requested a temporary deviation from the normal operating schedule in order to complete rehabilitation work associated with the replacement of lift span machinery. The Marine Parkway (Gil Hodges Memorial) Bridge across Jamaica Bay (Rockaway Inlet), mile 3.0 at Queens, New York has a vertical clearance of 55 feet at mean high water and 59 feet at mean low water in the closed position. The existing drawbridge operating regulations are listed at 33 CFR 117.795(a).

The temporary deviation will allow the owner of the Marine Parkway (Gil Hodges Memorial) bridge to require vessels seeking an opening of the draw to provide a minimum of two hours of advance notice on weekdays (Monday through Friday) between the hours of 8 a.m. and 4 p.m. from July 30, 2018 to November 30, 2018 by submitting a request for the opening of the draw. Requiring a minimum of two hours of advance notice before opening the draw allows for sufficient time to alert all affected personnel engaged in bridge rehabilitation work to vacate the lift span and all machinery areas along, with removing and/or securing materials and equipment prior to lifting the bridge.

The waterway is transited by seasonal recreational traffic as well as commercial vessels, largely tug and barge combinations. The 55 foot vertical clearance while the bridge is in the closed position offers the bulk of commercial traffic sufficient room to transit under the bridge in the closed position. Vessels that can pass under the bridge without an opening may do so at all times. The bridge will be able to open for emergencies. There is no immediate alternate route for vessels unable to pass through the bridge when in the closed position.

The Coast Guard will inform users of the waterway through our Local and Broadcast Notices to Mariners of the change in operating schedule for the bridge so that vessel operators can arrange their transits to minimize any impact caused by this temporary deviation.

In accordance with 33 CFR 117.35(e), the drawbridge must return to its regular operating schedule immediately at the end of the effective period of this temporary deviation. This deviation from the operating regulations is authorized under 33 CFR 117.35.

Dated: July 23, 2018.
C.J. Bisignano,
Supervisory Bridge Management Specialist, First Coast Guard District.

[FR Doc. 2018-16026 Filed 7-26-18; 8:45 am]

BILLING CODE 9110-04-P